DEPARTMENT OF COMMERCE

National Oceanic and Atmospheric Administration

[RTID 0648-XF510]

Gulf Fishery Management Council; Public Meeting

AGENCY: National Marine Fisheries Service (NMFS), National Oceanic and Atmospheric Administration (NOAA), Commerce.

ACTION: Notice of a public meeting.

SUMMARY: The Gulf Fishery Management Council (Gulf Council) will hold a 3 day in-person meeting of its Standing and Special Shrimp Scientific and Statistical Committees (SSCs).

DATES: The meeting will be in-person Tuesday, February 24-Thursday, February 26, 2026. Daily schedule as follows: Tuesday and Wednesday from 8:30 a.m.-5 p.m., EST daily and Thursday from 8:30 a.m.-2 p.m.

ADDRESSES: The meeting will be held at Gulf Council office in Tampa, FL. Virtual connection information will be available on the Council's website at www.gulfcouncil.org and clicking on the “meeting tab”.

Council address: Gulf Fishery Management Council, 4107 W Spruce Street, Suite 200, Tampa, FL 33607; telephone: (813) 348-1630.

FOR FURTHER INFORMATION CONTACT: Mr. Ryan Rindone, Lead Fishery Biologist, Gulf Fishery Management Council; ryan.rindone@gulfcouncil.org, telephone: (813) 348-1630.

SUPPLEMENTARY INFORMATION:

Tuesday, February 24, 2026; 8:30 a.m.-5 p.m. EST

The meeting will begin with Introductions and Adoption of Agenda, review and approval of Meeting Minutes from the January 2026 SSC webinar and Scope of Work.

The Standing and Shrimp SSCs will then review Southeast Data Assessment and Review (SEDAR) 87 stock assessments of Gulf Penaeid Shrimp and Shrimp Bycatch Methodology Working Group Recommendations for Finfish Species, including presentations, background materials and SSC discussions.

Public comments will be heard at the end of the day, if any.

Wednesday, February 25, 2026; 8:30 a.m.-5 p.m., EST

The Standing SSC will reassemble to review Management Strategy Evaluations (MSE) of Marine Recreation Information Program-Fishing Effort Survey (MRIP-FES) Recalibrations, Greater Amberjack Interim Analysis and Catch Advice, and Southeast Fishery Science Center (SEFSC) Stakeholder Participatory Workshops, including presentations, background materials and SSC discussions.

The SSC will also receive presentations on research about Gray Triggerfish discard mortality and in-season management of a recreational fishery, including background materials and SSC discussions.

Public comments will be heard at the end of the day, if any.

Thursday, February 26, 2026; 8:30 a.m.-2 p.m., EST

The Standing SSC will discuss Social and Economic Effects of Mid-year IFQ Quota Modifications, including a presentation and SSC discussion. The SSC will also review a check-in on SEDAR 100: Gulf Gray Triggerfish Stock Assessment and hold a discussion on the progress on MRIP Pilot Studies, including presentations and SSC Discussion.

Public comments, if any, will be heard at the end of the day followed by the review of any Other Business items.

—Meeting Adjourns

The meeting will also be broadcast via webinar. You may register to listen in only by visiting www.gulfcouncil.org and clicking on the SSC meeting on the calendar.

The Agenda is subject to change, and the latest version along with other meeting materials will be posted on www.gulfcouncil.org as they become available.

Although other non-emergency issues not on the agenda may come before the Scientific and Statistical Committees for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take-action to address the emergency.

Special Accommodations

These meetings are physically accessible to people with disabilities. Requests for sign language interpretation or other auxiliary aid should be directed to Kathy Pereira, (813) 348-1630, at least 5 days prior to the meeting date.

Authority: 16 U.S.C. 1801 et seq.

Dated: January 30, 2026.
Becky J. Curtis,
Acting Deputy Director, Office of Sustainable Fisheries, National Marine Fisheries Service.

[FR Doc. 2026-02196 Filed 2-2-26; 8:45 am]

BILLING CODE 3510-22-P